DEPARTMENT OF LABOR

Employment and Training Administration

[TA-W-64,335]

Indiana Handle Co., Inc., Currently Known as Crestwood Manufacturing, Inc., Paoli, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on December 12, 2008, applicable to workers of Indiana Handle Co., Paoli, Indiana. The notice was published in the Federal Register on December 30, 2008 (73 FR 79914).

At the request of the State agency, the Department reviewed the certification for workers of the subject firm. The workers are engaged in the production of wooden furniture components and wood turnings.

New information shows that due to a change in ownership, Indiana Handle Co., Inc., is currently known as Crestwood Manufacturing, Inc.

Workers wages at the subject firm are being reported under the Unemployment Insurance (UI) tax account for Crestwood Manufacturing, Inc.

Accordingly, the Department is amending this certification to include workers of the subject firm whose UI wages are reported under the successor firm, Crestwood Manufacturing, Inc., Paoli, Indiana.

The amended notice applicable to TA-W-64,335 is hereby issued as follows:

”All workers of Indiana Handle Co., Inc., currently known as Crestwood Manufacturing, Inc., Paoli, Indiana, who became totally or partially separated from employment on or after October 29, 2008, through December 12, 2010, are eligible to apply for adjustment assistance under Section 223 of the Trade Act of 1974, and are also eligible to apply for alternative trade adjustment assistance under Section 246 of the Trade Act of 1974.”

Signed at Washington, DC, this 9th day of March, 2009.
Richard Church,
Certifying Officer, Division of Trade Adjustment Assistance.

[FR Doc. E9-6238 Filed 3-20-09; 8:45 am]

BILLING CODE 4510-FN-P